OFFICE OF PERSONNEL MANAGEMENT

Proposed Collection; Comment Request for Collection: Scholarship for Service Program Internet Webpage

AGENCY: Office of Personnel Management.

ACTION: Notice.

SUMMARY: In accordance with the Paperwork Reduction Act of 1995 (Public Law 104-13, May 22, 1995), this notice announces that the Office of Personnel Management (OPM) submitted a request to the Office of Management and Budget (OMB). OPM requested OMB to approve a collection associated with the Scholarship For Service (SFS) Program Internet webpage. Approval of the webpage is necessary to facilitate the timely registration, selection, and placement of program-enrolled students in Federal agencies.

The SFS Program was established by the National Science Foundation in accordance with the Federal Cyber Service Training and Education Initiative as described in the President's National Plan for Information Systems Protection. This program seeks to increase the number of qualified students entering the fields of information assurance and computer security in an effort to respond to the threat to the Federal Government's information technology infrastructure. The program provides capacity building grants to selected 4-year colleges and universities to develop or improve their capacity to train information assurance professionals. It also provides selected 4-year colleges and universities scholarship grants to attract students to the information assurance field. Participating students who receive scholarships from this program are required to serve a 10-week internship during their studies and complete a post-graduation employment commitment equivalent to the length of the scholarship or one year, whichever is longer.

OPM projects that 450 students will graduate from participating institutions over the next three years. These students will need placement in addition to the 180 students needing placement this year. We estimate the collection of information for registering and creating an online resume to be 45 minutes to 1 hour. We estimate the total number of hours to be 630.

Comments: We received no comments in response to our 60-day notice.

U.S. Office of Personnel Management.
Tricia Hollis,
Chief of Staff/Director of Internal Affairs.

[FR Doc. E6-22299 Filed 12-27-06; 8:45 am]

BILLING CODE 6325-38-P